FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel—Operating Common Carrier Ocean Transportation Intermediary Applicants:

A.W.E. Logistics Group LLC, One Cross Island Plaza, Suite 226, Rosedale, NY 11422, Officer: Dominic Luk, Managing Director (Qualifying Individual).

Haiti Shipping Lines, Inc. dba HSL Logistics, 555 NW So River Drive, Miami, FL 33136, Officers: Richard A. Dubin, Vice President (Qualifying Individual), Patrick Bellard, President.

ACME Freight Services Corp., 550 E. Carson Plaza Drive, Suite 201, Carson, CA 90746, Officer: Shia-Shung Shih, President (Qualifying Individual).

ENL Global (New York) Inc., 182-30 150th Road, Suite 128, Jamaica, NY 11413, Officers: Ming Wu, President (Qualifying Individual), Wai Man Tong, Vice President.

Non-Vessel—Operating Common Carrier and Ocean Freight Forwarder Transportation Intermediary Applicants:

New Haven International, Inc. dba Trans Express, 3901 Williams Blvd., Suite #24, Kenner, LA 70065, Officers: Lillia M. Martinez, Vice President of Opera (Qualifying Individual), Mario Jerez, President.

Sofilink Continental, Inc., 9960 Nn.W. 116th Way, Suite 10, Miami, FL 33178, Officer: Nelson A. Guillen, President (Qualifying Individual).

Ocean Air Land Freight Corp., dba Ocean Air Lines, 8600 NW 30th Terrace, Miami, FL 33122, Officers: Martha Zuluaga, President (Qualifying Individual), Maria Josefina Gori, Secretary.

Ocean Freight Forwarder—Ocean Transportation Intermediary Applicants:

Nhigroup Shipping Services, 9639 Hillcroft, Suite 892, Houston, TX 77906, Alex Okolie Anyikam, Sole Proprietor.

M & P Multi-Service Corp, dba M & P Multi-Service, 6153 Johnson Street, Houston, TX 33024. Officer: Victor M. Mercedes, President (Qualifying Individual).

Dated: January 5, 2007.
Bryant L. VanBrakle,
Secretary.

[FR Doc. E7-189 Filed 1-9-07; 8:45 am]

BILLING CODE 6730-01-P